DEPARTMENT OF JUSTICE

Federal Bureau of Investigation

Meeting of the CJIS Advisory Policy Board

AGENCY: Federal Bureau of Investigation (FBI), Justice.

ACTION: Meeting notice.

SUMMARY: The purpose of this notice is to announce the meeting of the Criminal Justice Information Services (CJIS) Advisory Policy Board (APB). The CJIS APB is responsible for reviewing policy issues, uniform crime reports, and appropriate technical and operational issues related to the programs administered by the FBI's CJIS Division and thereafter, make appropriate recommendations to the FBI Director. The topics to be discussed will include the Justice Consolidated Network; proposed changes to part 20 of Title 28; Code of Federal Regulations; discussion of functions included in the definition of Administration of Criminal Justice and Criminal Justice; secondary dissemination of National Crime Information Center (NCIC) “Hot File”; status of the Joint Task Force on Rap Sheet Standardization; and identity theft. Discussion will also include the status on the National Crime Prevention and Privacy Compact, Immigration and Naturalization Service Alien Initiative, the DOJ Global and Information Sharing Project, and other issues related to the Integrated Automated Fingerprint Identification System, NCIC, Law Enforcement Online, National Instant Criminal Background Check System and Uniform Crime Reporting Programs.

The meeting will be open to the public on a first-come, first-seated basis. Any member of the public wishing to file a written statement concerning the FBI's CJIS Division programs or wishing to address this session should notify the Designated Federal Employee, Mr. Roy G. Weise, at (304) 625-2730, at least 24 hours prior to the start of the session.

The notification should contain the requestor's name, corporate designation, and consumer affiliation or government designation along with a short statement describing the topic to be addressed and the time needed for the presentation. A requestor will ordinarily be allowed no more than 15 minutes to present a topic.

DATES AND TIMES: The Advisory Policy Board will meet in open session from 9 a.m. until 5 p.m. on June 5-6, 2002.

ADDRESSES: The meeting will take place at the Embassy Suites Hotel Chicago Downtown—Lakefront Chicago, Illinois, telephone (312) 836-5900.

FOR FURTHER INFORMATION CONTACT: Inquiries may be addressed to Mrs. Rebecca S. Durrett, Management Analyst, Advisory Groups Management Unit, Programs Development Section, FBI CJIS Division, Module C3, 1000 Custer Hollow Road, Clarksburg, West Virginia 26306-0149, telephone (304) 625-2617, facsimile (304) 625-5090.

Dated: April 17, 2002.
Roy G. Weise,
Designated Federal Employee, Criminal Justice Information Services Division, Federal Bureau of Investigation.

[FR Doc. 02-11019 Filed 5-2-02; 8:45 am]

BILLING CODE 4410-02-M